DEPARTMENT OF COMMERCE

National Oceanic and Atmospheric Administration

[I.D. 012605B]

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) Atlantic Mackerel, Squid, and Butterfish Committee and its Industry Advisory Panel will hold a public meeting.

DATES: The meeting will be held on February 18, 2005, from 9 a.m. to 5 p.m.

ADDRESSES: The meeting will be held at The Grand Hotel of Victorian Cape May, 1045 Beach Drive, Cape May, NJ 08204; telephone: 800-257-8550.

Council address: Mid-Atlantic Fishery Management Council; 300 S. New Street, Room 2115, Dover, DE 19904.

FOR FURTHER INFORMATION CONTACT: Daniel T. Furlong, Executive Director, Mid-Atlantic Fishery Management Council; 300 S. New Street, Room 2115, Dover, DE 19904, telephone: 302-674-2331, ext. 19.

SUPPLEMENTARY INFORMATION: The purpose of this meeting is to discuss limited access management alternatives for the Atlantic mackerel fishery that may be included in Amendment 9 to the Atlantic mackerel, Squid, and Butterfish Fishery Management Plan. Specific management alternatives recommended by the Committee will be included in the supplemental scoping document for Amendment 9. The complete range of mackerel limited access alternatives that will be included in Amendment 9 will be established during the development of the public hearing document after the close of the scoping period. The time frame for that scoping period will be specified in an upcoming Federal Register notice.

Although non-emergency issues not contained in this agenda may come before this group for discussion, those issues may not be the subject of formal action during this meeting. Action will be restricted to those issues specifically identified in this notice and any issues arising after publication of this notice that require emergency action under section 305 (C) of the Magnuson-Stevens Fishery Conservation and Management Act, provided the public has been notified of the Council's intent to take final action to address the emergency.

Special Accommodations

This meeting is physically accessible to people with disabilities. Requests for sign language interpretation or other auxiliary aids should be directed to Debbie Donnangelo at the Mid-Atlantic Council Office (see ADDRESSES) at least 5 days prior to the meeting date.

Dated: January 27, 2005.
Alan D. Risenhoover,
Acting Director, Office of Sustainable Fisheries, National Marine Fisheries Service.

[FR Doc. E5-364 Filed 1-31-05; 8:45 am]

BILLING CODE 3510-DS-S